DEPARTMENT OF THE INTERIOR

National Park Service

National Register of Historic Places; Notification of Pending Nominations

Nominations for the following properties being considered for listing in the National Register were received by the National Park Service before March 27, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by May 6, 2004.

Carol D. Shull,
Keeper of the National Register of Historic Places.

COLORADO

Bent County

Fort Lyon, Jct. of Bent Cty. Rd. 15 and Fort Lyon Gate Rd., Las Animas, 04000388

Denver County

Altamaha Apartments, 1490 Lafayette St., Denver, 04000382

West Side Court Building, 924 W. Colfax Ave., Denver, 04000383

San Juan County

Martin Mining Complex, 6350 Cty Rd. #2, Silverton, 04000384

CONNECTICUT

Fairfield County

Perkins, Maxwell E., House, 63 Park St., New Canaan, 04000415

Hartford County

Downtown North Historic District, Roughly Ann, Atlant, Ely, High, Main and Pleasant Sts., Hartford, 04000390

Litchfield County

Hine—Buckingham Farms, 44, 46, 48 Upland Rd., 78, 81 Crossman Rd., New Milford, 04000413

New London County

Hartford Colony, Roughly Leonard Court, New Shore Rd., and Shore Rd., Waterford, 04000414

MISSOURI

Cape Girardeau County

B'Naie Israel Synagogue, 126 S. Main, Cape Girardeau, 04000385

Jackson County 1524 Grand Avenue Building, 1524 Grand Blvd., Kansas City, 04000389

Buick Automobile Company Building, 216 Admiral Blvd., Kansas City, 04000386

Kansas City Southern Railway Building, (Railroad Related Historic Commercial and Industrial Resources in Kansas City, Missouri MPS) 114 W. 11th St., Kansas City, 04000392

Midwest Hotel, (Working Class Hotels at 19th and Main Streets, Kansas City, Missouri MPS) 1925 Main St., Kansas City, 04000394

Monroe Hotel, (Working Class Hotels at 19th and Main Streets, Kansas City, Missouri MPS) 1904-06 Main St., Kansas City, 04000395

Park Lane Apartments, 4600-4606 J.C. Nichols Parkway, Kansas City, 04000387

Rieger Hotel, (Working Class Hotels at 19th and Main Streets, Kansas City, Missouri MPS) 1922 Main St., Kansas City, 04000396

Union Station (Boundary Increase), Generally bounded by Kansas City Terminal RR tracks, Pennway, Pershing Rd. and Union Station, Kansas City, 04000393

NEW JERSEY

Somerset County

Ten Eyck, Andrew, House, 671 Old York Rd., Branchburg, 04000391

PENNSYLVANIA

Dauphin County

Pennsylvania Railroad GG! Streamlined Electric Locomotive #4859, Track 5, Harrisburg Transportation Center Aberdeen St., Harrisburg, 04000399

Lehigh County

Allentown Masonic Temple, 1524 W. Linden St., Allentown, 04000402

Northampton County

Bethlehem Steel Lehigh Plant Mill #2 Annex, 11 W. 2nd St., Bethlehem, 04000401

York County

West Side Sanitarium, 1253-1261 West Market St., West York Borough, 04000400

UTAH

Salt Lake County

Draper Poultryment and Egg Producers' Plant, (Draper, Utah MPS) 1071 E. Pioneer Rd., Draper, 04000403

Fitzgerald, Perry and Agnes Wadsworth, House, (Draper, Utah MPS) 1144 E. Pioneer Rd., Draper, 04000404

Mickelsen, Joseph E. and Mina W., House, (Draper, Utah MPS) 782 E. Pioneer Rd., Draper, 04000405

Mickelsen, S.J., Hardware Store and Lumber Yard, (Draper, Utah MPS) 12580-12582 S. Fort St., Draper, 04000406

WISCONSIN

Brown County

Rockwood Lodge Barn and Pigsty, 5632 Sturgeon Bay Rd., Green Bay, 04000412

Door County

Bouche, J.B., House, 9697 School Rd., Brussels, 04000411

Draize, August, Farmstead, 814 Tru-Way Rd., Union, 04000398

Engleber, Frank and Clara, House, 9390 Cemetery Rd., Brussels, 04000397

Falque, Joachine J., House, 1059 County Trunk Highway C, Brussels, 04000407

Joint Brussels and Garner Dristrict School Number One, 8571 State Trunk Highway 57, Brussels, 04000408

Monfils, Joseph, Farmstead, 1463 Dump Rd., Brussels, 04000409

Vangindertahlen, Louis, House, 1514 Dump Rd., Brussels, 04000410

[FR Doc. 04-8967 Filed 4-20-04; 8:45 am]

BILLING CODE 4312-27-P